FEDERAL COMMUNICATIONS COMMISSION

47 CFR Part 73

[DA 07-1713; MB Docket No. 06-77; RM-11324; RM-11334]

Radio Broadcasting Services; Burkesville, KY; Belle Meade, TN; Edinburgh, IN; Goodlettsville, TN; Greensburg, KY; Hendersonville, TN; Hodgenville, KY; Hope, IN; Horse Cave, KY; Lebanon, Lebanon Junction, Lewisport, Louisville, Lyndon, KY; Manchester and Millersville, TN; New Haven, KY; Springfield and St. Matthews, KY; Tell City and Versailles, IN

AGENCY: Federal Communications Commission.

ACTION: Final rule, dismissal of petition for reconsideration.

SUMMARY: This document dismisses a Petition for Reconsideration filed by Indiana University and denies a Petition for Reconsideration filed by Indiana Community Radio Corporation both directed to the Report and Order in this proceeding. With this action, the proceeding is terminated.

FOR FURTHER INFORMATION CONTACT: Robert Hayne, Media Bureau

(202) 418-2177.

SUPPLEMENTARY INFORMATION: This is a synopsis of the Memorandum Opinion and Order in MB Docket No. 06-77, adopted April 13, 2007, and released April 16, 2007. The full text of this decision is available for inspection and copying during normal business hours in the FCC Reference Information Center at Portals II, CY-A257, 445 12th Street, SW., Washington, DC 20554. The complete text of this decision may also be purchased from the Commission's copy contractor, Best Copy and Printing, Inc., 445 12th Street, SW., Room CY-B402, Washington, DC 20554, telephone 1-800-378-3160 or http://www.BCPIWEB.com. The Commission will not send a copy of this Memorandum Opinion and Order pursuant to the Congressional Review Act, see 5 U.S.C. 801(a)(1)(A), because the adopted rules are rules of particular applicability. This document does not contain new or modified information collection requirements subject to the Paperwork Reduction Act of 1995 (PRA), Pub. L. 104-13. In addition, therefore, it does not contain any new or modified “information collection burden for small business concerns with fewer than 25 employees,” pursuant to the Small Business Paperwork Relief Act of 2002, Pub. L. 107-198, see 44 U.S.C. 3506(c)(4).

List of Subjects in 47 CFR Part 73

Radio, Radio broadcasting.

Federal Communications Commission.
John A. Karousos,
Assistant Chief, Audio Division, Media Bureau.

[FR Doc. E7-8360 Filed 5-1-07; 8:45 am]

BILLING CODE 6712-01-P